DEPARTMENT OF HEALTH AND HUMAN SERVICES

Administration for Children and Families

Request for Public Comment on Proposed Funding Opportunity Announcement for Special Initiative Concerning the Assets for Independence Program

AGENCY: Office of Community Services, ACF, HHS.

ACTION: Request for Public Comment.

C.F.D.A. Number: 93.602

Statutory Authority: The Assets for Independence Act (Title IV of the Community Opportunities, Accountability, and Training and Educational Services Act of 1998, as amended, Pub. L. 105-285, 42 U.S.C. 604 note) authorizes the Department of Health and Human Services to award grants to support Assets for Independence (AFI) projects and to research and evaluate the effectiveness of the AFI program and Individual Development Accounts (IDAs).

SUMMARY: In FY 2011, the Office of Community Services (OCS) will coordinate with the Administration on Native Americans (ANA) to implement the Native Asset Building Initiative, through which the two offices will support Tribes and Native organizations in planning and implementing comprehensive asset-building projects. The initiative will feature special grants through the Assets for Independence (AFI) program. These grants will be in addition to the annual AFI grants that OCS will award in FY 2011. In contrast to the annual awards, though, the eligibility criteria to be listed for these AFI grants in the “Native Asset Building Initiative” will vary from the annual AFI awards' eligibility criteria. This is because the criteria used to determine eligibility for these special initiative awards will be more consistent with those used to determine eligibility in the ANA grant program with which OCS is coordinating. Consequently, the eligibility for the special AFI grants will be limited to Native 501(c)(3) non-profits serving Native Americans; Federally recognized Tribal governments or Alaska Native Villages, as defined in the Alaska Native Claims Settlement Act, that are joint applicants with a 501(c)(3) Native non-profit organization; and Native non-profit organizations designated by the Secretary of the Treasury as Community Development Financial Institutions and Native non-profit credit unions designated by the National Credit Union Administration as low-income credit unions that demonstrate a collaborative relationship with a local community based organization whose activities are designed to address poverty and the needs of community members for economic independence and stability. Other entities will not be eligible for awards under this initiative, but will continue to be eligible for awards under the annual AFI funding opportunity announcement that was published issued for FY 2011 through FY 2013 on February 24, 2011 on http://www.acf.hhs.gov/grants/open/foa/view/HHS-2011-ACF-OCS-EI-0137.

It is estimated that OCS will award up to 10 AFI program grants under Native Asset Building Initiative, with overall funding of approximately $2,500,000 toward the initiative. It is anticipated that each recipient of these special AFI grants will also receive a separate ANA award for their project.

In addition to these special AFI awards, we estimate that $15,000,000 in grants will be awarded in FY 2011 under the annual AFI funding opportunity announcement published on February 24, 2011.

Proposed Funding Opportunity Announcement; Native Asset Building Initiative

In FY 2011, OCS will coordinate with the Administration on Native Americans (ANA) on the Native Asset Building Initiative to support Tribes and Native organizations in planning and implementing comprehensive asset building projects. OCS and ANA are providing this support through a joint funding opportunity and training and technical assistance.

The OCS component of the joint funding opportunity will feature special Assets for Independence (AFI) program grants the eligibility for which will be limited to entities that are eligible for ANA grants. Therefore, eligibility for the special AFI grants will be limited to Native 501(c)(3) non-profits serving Native Americans; Federally recognized Tribal governments or Alaska Native Villages, as defined in the Alaska Native Claims Settlement Act, that are joint applicants with a 501(c)(3) Native non-profit organization; Native non-profit organizations designated by the Secretary of the Treasury as Community Development Financial Institutions and Native non-profit credit unions designated by the National Credit Union Administration as low-income credit unions that demonstrate a collaborative relationship with a local community-based organization whose activities are designed to address poverty and the needs of community members for economic independence and stability. Other entities will not be eligible to submit applications for the AFI grants under the Native Asset Building Initiative. It is estimated that OCS will award up to ten AFI program grants under the initiative, with overall funding of approximately $2,500,000.

The ANA component of the Native Asset Building Initiative will feature a new funding opportunity through the Social and Economic Development Strategies (SEDS) program as well. The SEDS grants will provide funding for each project's operational and staffing costs, as well as support for financial literacy education training, capacity building, and other asset building activities.

The OCS AFI grants will provide funding to support the provision of Individual Development Accounts (IDA), or matched savings accounts, component of each selected applicant's comprehensive asset building project. The AFI grantees will also provide funding to support limited administrative costs related to the IDA component. AFI is a demonstration of the use of IDAs and related strategies using an asset-based approach for assisting individuals and families with low incomes out of poverty. The program supports grantee organizations that provide financial literacy education and other training to families, along with access to IDAs. Every dollar in savings deposited into an IDA by a participant will be matched with AFI grant funds and non-federal funds. The program promotes savings and enables participants to acquire an economic asset that will appreciate over the long-term. Participants use their IDA savings to acquire a first home, capitalize a small business, or enroll in postsecondary education or training.

The Native Asset Building Initiative is designed to create synergies between the SEDS program and the AFI program, and to provide enhanced funding opportunities for Native communities. OCS and ANA anticipate that the Native Asset Building Initiative funding opportunity announcement will be published in April 2011. Upon publication, the Native Asset Building Initiative funding opportunity announcement will be made available at http://www.Grants.gov and at ACF Funding Opportunities http://www.acf.hhs.gov/grants/index.html.

Information on the planned announcement may now be accessed at the HHS Grants Forecast Web site at http://www.acf.hhs.gov/hhsgrantsforecast/.

OCS will publish a synopsis of comments received as a result of this notice, along with the agency's responses.

DATES: The deadline for receipt of comments is 30 days from the date of publication of this notice in the Federal Register.

ADDRESSES: Comments in response to this notice should be addressed to James Gatz, Manager, Assets for Independence Program, Office of Community Services, 370 L'Enfant Promenade, SW., Mailstop Aerospace 5-West, Washington, DC 20447. Comments will be available for inspection by members of the public at the Office of Community Services, 370 L'Enfant Promenade, SW., Washington, DC 20447.

FOR FURTHER INFORMATION CONTACT: Jennifer Medina, Program Specialist, (866) 778-6037.

Dated: March 23, 2011.
Yolanda Butler,
Acting Director, Office of Community Services.

[FR Doc. 2011-7649 Filed 3-31-11; 8:45 am]

BILLING CODE 4184-26-P